DEPARTMENT OF COMMERCE

National Oceanic and Atmospheric Administration

Agency Information Collection Activities; Submission to the Office of Management and Budget (OMB) for Review and Approval; Comment Request; Gear-Marking Requirements for Atlantic Large Whale Take Reduction Plan

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on February 13, 2023 (88 FR 9252) during a 60-day comment period. This notice allows for an additional 30 days for public comments.

Agency: National Oceanic and Atmospheric Administration (NOAA), Department of Commerce.

Title: Gear-Marking Requirements for Atlantic Large Whale Take Reduction Plan.

OMB Control Number: 0648-0364.

Form Number(s): None.

Type of Request: Regular (extension of a current information collection).

Number of Respondents: 3,970.

Average Hours per Response: Each mark requires approximately 6.7-8.6 minutes of time.

Total Annual Burden Hours: 222,391.

Needs and Uses: In 1996, pursuant to section 118 of the MMPA, the National Marine Fisheries Service (NMFS) established and convened an Atlantic Large Whale Take Reduction Team (Team) to assist in the development of the Atlantic Large Whale Take Reduction Plan (Plan). Throughout this process, the Team has provided NMFS with recommended measures designed to reduce mortality and serious injury to North Atlantic right (Eubalaena glacialis), humpback (Megaptera novaeangliae), minke (Balaenoptera acutorostrata), and fin (Balaenoptera physalus) whales from incidental interactions with commercial fishing gear. To gather information on where entanglements are occurring and what type of gear is involved, the Team developed gear marking requirements. As a result, any person setting trap/pot or gillnet gear to fish commercially in some areas of the Atlantic Ocean are required to paint or otherwise mark their gear with specific color codes, designating the type of gear and area where it is set, in addition to specific buoy marking requirements.

NMFS is continuing the gear marking regulations amended in the 2021 rule for the Northeast Region Trap/Pot Management Area (northeast region) commercial trap/pot fisheries because increased gear marking continues to be necessary to improve our understanding of where entanglement incidents occur (RIN 648-BJ09). The gear modifications required by the rule became effective May 1, 2022, which is at the start of the American lobster/Jonah crab fishing year.

The continuation of this data collection allows for improved information on entanglement origins that will further enable NMFS to reduce injuries and deaths of large whales, especially North Atlantic right whales, due to incidental entanglement in United States commercial fishing gear. In order to develop fair and effective management measures, the Team requires comprehensive data on when, where, and how fixed gear vessels fish, and where whales become entangled in fishing gear.

Affected Public: Individuals or households; Business or other for-profit organizations.

Frequency: All gear must be marked and maintained so marks are visible. On average, gear is replaced every 5-6 years, at which time the new gear must be marked.

Respondent's Obligation: Mandatory.

Legal Authority: Marine Mammal Protection Act, Endangered Species Act.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0364.

Sheleen Dumas,
Department PRA Clearance Officer, Office of the Under Secretary for Economic Affairs, Commerce Department.

[FR Doc. 2023-11803 Filed 6-1-23; 8:45 am]

BILLING CODE 3510-22-P